DEPARTMENT OF ENERGY

Federal Energy Regulatory Commission

Notice of Effectiveness of Exempt Wholesale Generator and Foreign Utility Company Status

May 8, 2019.

| Docket Nos.
Hillcrest Solar I, LLC | EG19-54-000.
Long Ridge Energy Generation LLC | EG19-55-000.
Waipio PV, LLC | EG19-56-000.
Coyote Ridge Wind, LLC | EG19-57-000
Big Level Wind LLC | EG19-58-000.
Broadlands Wind Farm LLC | EG19-59-000.
Hidalgo Wind Farm II LLC | EG19-60-000.
Lexington Chenoa Wind Farm LLC | EG19-61-000.
Brickyard Hills Project, LLC | EG19-62-000.
Conrad (Chatterley) Ltd | FC19-3-000.

Take notice that during the month of April 2019, the status of the above-captioned entities as Exempt Wholesale Generators or Foreign Utility Companies became effective by operation of the Commission's regulations. 18 CFR 366.7(a) (2019).

Dated: May 8, 2019.
Nathaniel J. Davis, Sr.,
Deputy Secretary.

[FR Doc. 2019-09882 Filed 5-13-19; 8:45 am]

BILLING CODE 6717-01-P